DEPARTMENT OF TRANSPORTATION

Federal Aviation Administration

Notice of Release From Federal Grant Assurance Obligations at Fresno Yosemite International Airport, Fresno, CA

AGENCY: Federal Aviation Administration, DOT.

ACTION: Notice of Request to Release Airport Land.

SUMMARY: The Federal Aviation Administration (FAA) proposes to rule and invites public comment on the application for a release of approximately 13.35 acres of airport property at the Fresno Yosemite International Airport (FAT), Fresno, California from all conditions contained in the Grant Assurances since the parcels of land is not needed for airport purposes. The land is located approximately 5,000 feet from the end of runway 11L in the northwest corner of the airport property. The property will be sold for its fair market value to the Fresno Metropolitan Flood Control District and the proceeds deposited in the airport account. The Fresno Metropolitan Flood Control District will continue use of the property as storm water detention basin. The detention basin usage will keep the property vacant and compatible with the airport to ensure it does not interfere with the airport or its operation, as well as continuing to serve the interest of civil aviation.

DATES: Comments must be received on or before August 6, 2012.

FOR FURTHER INFORMATION CONTACT: Comments on the request may be mailed or delivered to the FAA at the following address: Robert Lee, Airports Compliance Specialist, Federal Aviation Administration, San Francisco Airports District Office, Federal Register Comment, 1000 Marina Boulevard, Suite 220, Brisbane, CA 94005. In addition, one copy of the comment submitted to the FAA must be mailed or delivered to Mr. Russell C. Widmar, Director of Aviation, 4995 E. Clinton Way, Fresno, CA 93727.

SUPPLEMENTARY INFORMATION: In accordance with the Wendell H. Ford Aviation Investment and Reform Act for the 21st Century (AIR 21), Public Law 106-181 (Apr. 5, 2000; 114 Stat. 61), this notice must be published in the Federal Register 30 days before the Secretary may waive any condition imposed on a federally obligated airport by surplus property conveyance deeds or grant agreements.

The following is a brief overview of the request:

The City of Fresno, California requested a release from grant assurance obligations for approximately 13.35 acres of airport land to allow for its sale. The property was originally acquired as separate parcels with federal funding and airport generated funds. Approximately 2.23 acres were acquired under Airport Development Aid Program (ADAP) grant No. 6-06-0087-02; 1.41 acres were acquired under Airport Development Aid Program (ADAP) grant No. 6-06-0087-06; 3.05 acres were acquired under Airport Improvement Program (AIP) grant No. 3-06-0087-16 for noise abatement; 4.02 acres acquired under AIP grant No. 3-06-0087-19 for noise abatement; and 2.64 acres of the land was acquired from the State of California with airport generated funds for a total of 13.35 acres of airport land to be released.

Due to its location and condition, the property cannot be used for airport purposes. The property previously contained homes that have been removed and the land cleared. The land is presently kept vacant and is unimproved and does not have any current or future income generating potential. The planned land use is for a storm water detention basin and will be kept vacant. The release will allow 13.35 acres to be sold to the Fresno Metropolitan Flood Control District. The sale price will be based on an upward adjusted appraised fair market value. The sale proceeds will be deposited in the airport account. The Fresno Yosemite International Airport will be properly compensated, thereby serving the interests of civil aviation.

Issued in Brisbane, California, on June 20, 2012.
Michael A. Meyers,
Acting Assistant Manager, San Francisco Airports District Office, Western-Pacific Region.

[FR Doc. 2012-16432 Filed 7-3-12; 8:45 am]

BILLING CODE 4910-13-P